DEPARTMENT OF TRANSPORTATION

Federal Aviation Administration

14 CFR Part 39

[Docket No. FAA-2010-0488; Directorate Identifier 2008-SW-20-AD]

RIN 2120-AA64

Airworthiness Directives; Arrow Falcon Exporters, Inc. (previously Utah State University) et al. Model HH-1K, TH-1F, TH-1L, UH-1A, UH-1B, UH-1E, UH-1F, UH-1H, UH-1L, and UH-1P Helicopters; and Southwest Florida Aviation Model UH-1B (SW204 and SW204HP) and UH-1H (SW205) Helicopters

AGENCY: Federal Aviation Administration, DOT.

ACTION: Notice of proposed rulemaking (NPRM).

SUMMARY: This document proposes adopting a new airworthiness directive (AD) for the specified model helicopters. The AD would require inspecting each affected tail rotor blade (blade) forward tip weight retention block (tip block) and the aft tip closure (tip closure) for adhesive bond voids and removing any blade with an excessive void from service. This AD would also require modifying certain blades by installing shear pins and tip closure rivets. This proposal is prompted by five occurrences of missing tip blocks or tip closures resulting in minor to substantial damage to blades installed on Bell Model 212 and 412 helicopters. The actions specified by the proposed AD are intended to prevent loss of a tip block or tip closure, loss of a blade, and subsequent loss of control of the helicopter.

DATES: Comments must be received on or before July 12, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron, Inc., P.O. Box 482, Fort Worth, Texas 76101, telephone (817) 280-3391, fax (817) 280-6466.

You may examine the comments to this proposed AD in the AD docket on the Internet at http://www.regulations.gov.

FOR FURTHER INFORMATION CONTACT: DOT/FAA Southwest Region, Michael Kohner, ASW-170, Aviation Safety Engineer, Rotorcraft Directorate, Rotorcraft Certification Office, 2601 Meacham Blvd., Fort Worth, Texas 76137, telephone (817) 222-5170, fax (817) 222-5783.

SUPPLEMENTARY INFORMATION:

Comments Invited

We invite you to submit any written data, views, or arguments regarding this proposed AD. Send your comments to the address listed under the caption ADDRESSES. Include the docket number “FAA-2010-0488, Directorate Identifier 2008-SW-20-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 15477).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for the specified model helicopters. The AD would require inspecting each affected blade tip block and the tip closure for adhesive bond voids and removing from service any blade with an excessive void. This AD would also require modifying certain blades by installing shear pins and tip closure rivets. This proposal is prompted by five occurrences of missing tip blocks or tip closures resulting in minor to substantial damage to blades installed on Bell 212 and 412 helicopters. This condition, if not corrected, could result in loss of a tip block or tip closure, loss of a blade, and subsequent loss of control of the helicopter.

AD 2002-09-04, Amendment 39-12737 (67 FR 22349, May 3, 2002) was issued for the Bell Model 205A, 205A-1, 205B, 212, 412, 412CF, and 412EP helicopters and contained the same requirements proposed in this AD. AD 2007-22-02, Amendment 39-15238 (72 FR 60760, October 26, 2007), superseded AD 2002-09-04 to expand the applicability to include other part and serial-numbered blades. Some of the blades in the applicability of AD 2007-22-02 are eligible for installation on helicopters included in this proposed AD. The helicopters included in this proposal may have an FAA-approved modification that increases the helicopter's power rating to the equivalent of the twin-engine Bell Model 205B or 212 helicopter power rating. The Bell Model 205B and 212 helicopters are addressed in AD 2007-22-02. Consequently, the inspections and modifications required by AD 2007-22-02 also need to be mandated for the helicopters included in this proposal.

We have reviewed Bell Helicopter Textron Alert Service Bulletin No. 212-00-111, Revision D, dated March 18, 2005 (ASB), which describes procedures for inspecting and modifying certain blades. The ASB was issued as a result of an investigation of an in-flight loss of a tail rotor blade tip block, part number (P/N) 212-010-750-105. The investigation revealed the countersunk screws retaining the tip block were installed incorrectly, resulting in inadequate tip block retention. Reports have also been submitted about loss of the tip closures from other blades possibly due to inadequate adhesive bonding in this area.

We have identified an unsafe condition that is likely to exist or develop on other helicopters of these same type designs. Therefore, the proposed AD would require the following:

• Inspecting the affected blades' tip block and tip closure for voids.

• Removing any blade that has a void in excess of specified limitations.

• Modifying certain blades by installing shear pins.

• Modifying all affected blades by installing tip closure rivets and reidentifying the modified blades by adding an “FM” after the P/N.

The actions would be required to be done by following specified portions of the ASB described previously.

We estimate that this proposed AD would affect 716 helicopters of U.S. registry, but only 25 of those helicopters will have the increased power rating. It would take about 1 work hour to review the helicopter records. Also, it would take about 3 work hours to inspect the affected blades, install the shear pins and tip closure rivets, reidentify, and dynamically balance the blade set at an average labor rate of $85 per work hour. Required supplies would cost about $45 per helicopter. Based on these figures, the total cost impact of the proposed AD on U.S. operators would be $68,360. These costs are assuming that the records review to determine the applicability would be accomplished on the entire fleet of 716 helicopters. These costs also assume that the blade sets are installed on 25 helicopters with the FAA-approved modification and that those helicopters would need to be inspected and repaired.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Arrow Falcon Exporters, Inc. (previously Utah State University); Firefly Aviation Helicopter Services (previously Erickson Air-Crane Co.); California Department of Forestry; Garlick Helicopters, Inc.; Global Helicopter Technology, Inc.; Hagglund Helicopters, LLC (previously Western International Aviation, Inc.); International Helicopters, Inc.; Precision Helicopters, LLC; Robinson Air Crane, Inc.; San Joaquin Helicopters (previously Hawkins and Powers Aviation, Inc.); S.M.&T. Aircraft (previously US Helicopters, Inc., UNC Helicopter, Inc., Southern Aero Corporation, and Wilco Aviation); Smith Helicopters; Southern Helicopter, Inc.; Southwest Florida Aviation International, Inc. (previously Jamie R. Hill and Southwest Florida Aviation); Tamarack Helicopters, Inc. (previously Ranger Helicopter Services, Inc.); US Helicopter, Inc. (previously UNC Helicopter, Inc.); West Coast Fabrication; and Williams Helicopter Corporation (previously Scott Paper Co.) Model HH-1K, TH-1F, TH-1L, UH-1A, UH-1B, UH-1E, UH-1F, UH-1H, UH-1L, and UH-1P Helicopters; and Southwest Florida Aviation Model UH-1B (SW204 and SW204HP) and UH-1H (SW205) Helicopters: Docket No. FAA-2010-0488; Directorate Identifier 2008-SW-20-AD.

Applicability: Model HH-1K, TH-1F, TH-1L, UH-1A, UH-1B, UH-1E, UH-1F, UH-1H, UH-1L, and UH-1P helicopters, and Southwest Florida Aviation Model UH-1B series (SW204 series and SW204HP) and UH-1H series (SW205 series) helicopters, with a tail rotor blade (blade), part number (P/N) 212-010-750-009 through -129, all serial numbers except serial numbers with a prefix of “A” or “AFS,” and the number 11926, 13351, 13367, 13393, 13400, 13402, 13515, 13540, 13568, 13595 through 13602, 13619, and subsequent larger numbers, installed, certificated in any category.

Compliance: Within 100 hours time-in-service, unless accomplished previously.

To prevent loss of the forward tip weight retention block (tip block) or aft tip closure (tip closure), loss of the blade, and subsequent loss of control of the helicopter, do the following:

Note 1: A blade inspected and modified by following either AD 2002-09-04 or 2007-22-02, for the Bell Helicopter Textron (Bell) Model 205A, 205A-1, 205B, 212, 412, 412CF, and 412EP helicopters satisfies the requirements of this AD.

(a) Inspect the tip block and tip closure of each blade for voids. Remove from service any blade with a void in excess of that allowed by the applicable maintenance or Component Repair and Overhaul Manual limitations.

(b) Inspect the tip block attachment countersink screws in the four locations to determine if the head of each countersunk screw is flush with the surface of the abrasion strip. The locations of these four screws are depicted on Figure 1 of Bell Alert Service Bulletin 212-00-111, Revision D, dated March 18, 2005 (ASB). If any of these screws are set below the surface of the abrasion strip or are covered with filler material, install shear pins by following the Accomplishment Instructions, Part A, Shear Pin Installation paragraphs, of the ASB.

(c) Install the tip closure rivets on each blade, re-identify the modified blade by adding an “FM” after the P/N, and dynamically balance the tail rotor hub assembly by following the Accomplishment Instructions, Part B, Aft Tip Closure Rivet Installation paragraphs, of the ASB.

(d) To request a different method of compliance or a different compliance time for this AD, follow the procedures in 14 CFR 39.19. Contact the Manager, Rotorcraft Certification Office, Rotorcraft Directorate, ATTN: DOT/FAA Southwest Region, Michael Kohner, ASW-170, Aviation Safety Engineer, 2601 Meacham Blvd., Fort Worth, Texas 76137, telephone (817) 222-5170, fax (817) 222-5783, for information about previously approved alternative methods of compliance.

Issued in Fort Worth, Texas, on May 3, 2010.
Mark R. Schilling,
Acting Manager, Rotorcraft Directorate, Aircraft Certification Service.

[FR Doc. 2010-11419 Filed 5-12-10; 8:45 am]

BILLING CODE 4910-13-P